DEPARTMENT OF COMMERCE

International Trade Administration

(A-357-812)

Honey from Argentina: Notice of Partial Rescission of Antidumping Duty Administrative Review

AGENCY: Import Administration, International Trade Administration, Department of Commerce

SUMMARY: The Department of Commerce (the Department) is partially rescinding its administrative review of the antidumping duty order on honey from Argentina for the period December 1, 2004, to November 30, 2005, with respect to one company, Associacion de Cooperativas Argentinas (ACA).

EFFECTIVE DATE: October 17, 2006.

FOR FURTHER INFORMATION CONTACT: Deborah Scott or Robert James at (, AD/CVD Operations, Office 7, Import Administration, International Trade Administration, U.S. Department of Commerce, 14th Street and Constitution Avenue NW, Washington, DC 20230; Telephone: (202) 482-2657 and (202) 482-0649, respectively.

SUPPLEMENTARY INFORMATION:

Background

On December 1, 2005, the Department published in the Federal Register its notice of opportunity to request an administrative review of the antidumping duty order on honey from Argentina. See Antidumping or Countervailing Duty Order, Finding, or Suspended Investigation; Opportunity to Request Administrative Review, 70 FR 72109 (December 1, 2005). In response, on December 30, 2005, the American Honey Producers Association and the Sioux Honey Association (collectively, petitioners) requested an administrative review of the antidumping duty order on honey from Argentina for the period December 1, 2004, through November 30, 2005. The petitioners requested that the Department conduct an administrative review of entries of subject merchandise made by 42 Argentine producers/exporters. In addition, the Department received requests for review from four Argentine exporters included in the petitioners' request, including ACA. On January 6, 2006, petitioners withdrew their request with respect to 23 companies listed in their original request.

On February 1, 2006, the Department initiated a review on the remaining 19 companies for which an administrative review was requested. See Initiation of Antidumping and Countervailing Duty Administrative Reviews and Request for Revocation in Part, 71 FR 5241 (February 1, 2006).

On March 10, 2006, petitioners withdrew their requests for review of an additional twelve respondents. Accordingly, on April 10, 2006, the Department published a notice of partial rescission of review in response to petitioners' withdrawal of their requests covering twelve companies. See Honey from Argentina: Notice of Partial Rescission of Antidumping Duty Administrative Review, 71 FR 18066 (April 10, 2006). On August, 4, 2006, petitioners withdrew their request for an administrative review of respondent, Nexco S.A. On August 21, 2006 petitioners and respondent HoneyMax S.A. submitted letters withdrawing their requests for an administrative review of HoneyMax S.A. Accordingly, on September 6, 2006, the Department published a notice of partial rescission of review with regard to Nexco S.A. and HoneyMax S.A. See Honey from Argentina: Notice of Partial Rescission of Antidumping Duty Administrative Review, 71 FR 52526 (September 6, 2006)

On September, 11, 2006, petitioners and ACA submitted letters withdrawing their requests for an administrative review of ACA. See letter from ACA entitled “Honey From Argentina Fourth Administrative Review: Partial Withdrawl of Review Request,” dated September 11, 2006. See also letter from petitioners entitled “Fourth Annual Administrative Review of the Antidumping Duty Order on Honey from Argentina Partial Withdrawal of Review Request,” dated September 11, 2006.

Rescission of Review

Section 351.213(d)(1) of the Department's regulations provides that the Department will rescind an administrative review if the party that requested the review withdraws its request for review within 90 days of the date of publication of the notice of initiation of the requested review, or withdraws at a later date if the Department determines it is reasonable to extend the time limit for withdrawing the request. Although both petitioners and ACA withdrew their requests for review after the 90-day deadline, the Department finds it reasonable to extend the withdrawal deadline because the Department has not yet devoted significant time or resources to this review. Further, we find that neither petitioners' nor ACA's withdrawal constitutes an abuse of our procedures. See, e.g., Persulfates from the People's Republic of China: Notice of Rescission of Antidumping Duty Administrative Review, 71 FR 13810 (March 17, 2006).

The Department will issue appropriate assessment instructions directly to U.S. Customs and Border Protection (CBP) within 15 days of the publication of this notice. The Department will direct CBP to assess antidumping duties for ACA at the cash deposit rates in effect on the date of entry for entries during the period December 1, 2004, to November 30, 2005.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This notice is in accordance with section 777(i)(1) of the Tariff Act of 1930, as amended, and 19 CFR 351.213(d)(4).

Dated: October 10, 2006.
Stephen J. Claeys,
Deputy Assistant Secretary for Import Administration.

[FR Doc. E6-17255 Filed 10-16-06; 8:45 am]

BILLING CODE 3510-DS-S